DEPARTMENT OF ENERGY

Federal Energy Regulatory Commission

Combined Notice of Filings #1

Take notice that the Commission received the following electric rate filings:

Docket Numbers: ER13-1990-002.

Applicants: Southwest Power Pool, Inc.

Description: Southwest Power Pool, Inc. submits Amendment—Docket No. ER13-1990—Attachment T Revisions to be effective 9/30/2013.

Filed Date: 8/1/13.

Accession Number: 20130801-5142.

Comments Due: 5 p.m. ET 8/22/13.

Docket Numbers: ER13-2078-000.

Applicants: Southwest Power Pool, Inc.

Description: Integrated Marketplace—Grandfather Agreements Carve Out to be effective 3/1/2014.

Filed Date: 7/31/13.

Accession Number: 20130731-5199.

Comments Due: 5 p.m. ET 8/21/13.

Docket Numbers: ER13-2079-000.

Applicants: New England Power Pool Participants Committee.

Description: August 2013 Membership Filing to be effective 7/1/2013.

Filed Date: 8/1/13.

Accession Number: 20130801-5055.

Comments Due: 5 p.m. ET 8/22/13.

Docket Numbers: ER13-2080-000.

Applicants: Lavalley Energy, LLC.

Description: Lavalley Energy LLC Notice of Cancellation of MBR Tariff to be effective 8/1/2013.

Filed Date: 8/1/13.

Accession Number: 20130801-5084.

Comments Due: 5 p.m. ET 8/22/13.

Docket Numbers: ER13-2081-000.

Applicants: Exelon Generation Company, LLC.

Description: Exelon Generation Company, LLC submits Notice of Cancellation to be effective 8/2/2013.

Filed Date: 8/1/13.

Accession Number: 20130801-5094.

Comments Due: 5 p.m. ET 8/22/13.

Docket Numbers: ER13-2082-000.

Applicants: NorthWestern Corporation.

Description: SA 686—MATL Rimrock EPC to be effective 8/2/2013.

Filed Date: 8/1/13.

Accession Number: 20130801-5109.

Comments Due: 5 p.m. ET 8/22/13.

Docket Numbers: ER13-2083-000.

Applicants: Entergy Services, Inc.

Description: Notice of Cancellation of Transmission Service Agreement No. 336 of Entergy Services, Inc.

Filed Date: 8/1/13.

Accession Number: 20130801-5111.

Comments Due: 5 p.m. ET 8/22/13.

Docket Numbers: ER13-2084-000.

Applicants: Arizona Public Service Company.

Description: Rate Schedule No. 217 Exhibit B. GLA-SON—Amendment 3 to be effective 10/1/2013.

Filed Date: 8/1/13.

Accession Number: 20130801-5122.

Comments Due: 5 p.m. ET 8/22/13.

Docket Numbers: ER13-2085-000.

Applicants: Arizona Public Service Company.

Description: Rate Schedule No. 217 Exhibit B.SUD—Amendment 1 to be effective 10/1/2013.

Filed Date: 8/1/13.

Accession Number: 20130801-5133.

Comments Due: 5 p.m. ET 8/22/13.

Docket Numbers: ER13-2086-000.

Applicants: Arizona Public Service Company.

Description: Rate Schedule No. 217 Exhibit B.BKE-LIB—Amendment 1 to be effective 10/1/2013.

Filed Date: 8/1/13.

Accession Number: 20130801-5135.

Comments Due: 5 p.m. ET 8/22/13.

Take notice that the Commission received the following electric securities filings:

Docket Numbers: ES13-30-001.

Applicants: MidAmerican Energy Company.

Description: Amended Application for Authorization to Issue and Sell Debt Securities of MidAmerican Energy Company.

Filed Date: 7/31/13.

Accession Number: 20130731-5220.

Comments Due: 5 p.m. ET 8/12/13.

Take notice that the Commission received the following land acquisition reports:

Docket Numbers: LA13-2-000.

Applicants: Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Diablo Winds, LLC, Desert Sunlight 250, LLC, Desert Sunlight 300, LLC, Elk City Wind, LLC, Elk City II Wind, LLC, Ensign Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL, Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, Garden Wind, LLC, Gray County Wind Energy, LLC, Hatch Solar Energy Center I, LLC, Hawkeye Power Partners, LLC, High Majestic Wind Energy Center, LLC, High Winds, LLC, High Majestic Wind II, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Story Wind, LLC, Tuscola Bay Wind, LLC, Vasco Winds, LLC, Victory Garden Phase IV, LLC, Waymart Wind Farm, L.P., Wessington Wind Energy Center, LLC, White Oak Energy LLC, Wilton Wind II, LLC, Windpower Partners 1993, L.P.

Description: Quarterly Land Acquisition Report of NextEra Energy Companies.

Filed Date: 7/31/13.

Accession Number: 20130731-5219.

Comments Due: 5 p.m. ET 8/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2013.
Nathaniel J. Davis, Sr.,
Deputy Secretary.

[FR Doc. 2013-19583 Filed 8-13-13; 8:45 am]

BILLING CODE 6717-01-P